INTERNATIONAL TRADE COMMISSION

[Investigation No. 731-TA-895 (Review)]

Pure Magnesium From China

Determination

On the basis of the record ¹ developed in the subject five-year review, the United States International Trade Commission (Commission) determines, pursuant to section 751(c) of the Tariff Act of 1930 (19 U.S.C. 1675(c)) (the Act), that revocation of the antidumping duty order on certain pure magnesium from China would be likely to lead to continuation or recurrence of material injury to an industry in the United States within a reasonably foreseeable time.²

¹ The record is defined in sec. 207.2(f) of the Commission's Rules of Practice and Procedure (19 CFR 207.2(f)).

² Commissioners Jennifer A. Hillman and Irving A. Williamson not participating. Commissioner Dean A. Pinkert was not a member of the Commission at the time of the vote.

Background

The Commission instituted this review on October 2, 2006 (71 FR 58001) and determined on January 5, 2007 that it would conduct an expedited review (72 FR 3876, January 26, 2007).

The Commission transmitted its determination in this investigation to the Secretary of Commerce on March 1, 2007. The views of the Commission are contained in USITC Publication 3908 (March 2007), entitled Pure Magnesium from China: Investigation No. 731-TA-895 (Review).

Issued: March 1, 2007.
By order of the Commission.
Marilyn R. Abbott,
Secretary to the Commission.

[FR Doc. E7-4012 Filed 3-6-07; 8:45 am]

BILLING CODE 7020-02-P